CORPORATION FOR NATIONAL AND COMMUNITY SERVICE

Submission for OMB Emergency Review

AGENCY: Corporation for National and Community Service.

ACTION: Notice.

SUMMARY: The Corporation for National and Community Service (CNCS), submitted the following information collection request (ICR) to the Office of Management and Budget (OMB) for review and clearance in accordance with the Paperwork Reduction Act of 1995, (PRA 95) (44 U.S.C. Chapter 35). CNCS requested that OMB review and approve this emergency request by June 11, 2014, for a period of six months.

DATES: Comments are due June 13, 2014.

ADDRESSES: Comments may be submitted, identified by the title of the information collection activity, to the Office of Information and Regulatory Affairs, Attn: Ms. Sharon Mar, OMB Desk Officer for the Corporation for National and Community Service and to the Corporation for National and Community Service, Attn: Ms. Amy Borgstrom, by any of the following two methods within 30 days from the date of publication in the Federal Register:

By email to: smar@omb.eop.gov and aborgstrom@cns.gov.

Via www.regulations.gov.

FOR FURTHER INFORMATION CONTACT: Ms. Sharon Mar, OMB Desk Officer for the Corporation for National and Community Service and smar@omb.eop.gov, and Ms. Amy Borgstrom of the Corporation for National and Community Service at 202-606-6930 or aborgstrom@cns.gov.

SUPPLEMENTARY INFORMATION: Copies of this ICR, with applicable supporting documentation, may be obtained by calling the Corporation for National and Community Service, Amy Borgstrom, at 202-606-6930 or email to aborgstrom@cns.gov. Individuals who use a telecommunications device for the deaf (TTY-TDD) may call 1-800-833-3722 between 8:00 a.m. and 8:00 p.m. Eastern Time, Monday through Friday.

Because CNCS requested OMB's approval of this emergency request by June 11, 2014, there will be not enough time for the public to provide comments for a full 90 days through this Federal Register Notice before the approval date. Instead, there will be a 30-day comment period for this request.

Type of Review: Emergency Request.

Agency: Corporation for National and Community Service.

Title: Social Innovation Fund Pay for Success Pilot Application Instructions.

OMB Number: TBD.

Agency Number: None.

Affected Public: Nonprofit organizations, funders and intermediary organizations.

Total Respondents: 20.

Frequency: One time.

Average Time per Response: 30 hours.

Estimated Total Burden Hours: 600 hours.

Total Burden Cost (capital/startup): None.

Total Burden Cost (operating/maintenance): None.

Description: The Social Innovation Fund Pay for Success Pilot grant program was created as a result of the FY 2014 Omnibus Appropriations Act. This pilot responds to the need in the social sector for new ways of funding in a time that resources are declining as demands are increasing. It offers the opportunity to support innovation in the social sector innovation while driving better results and conserving government resources.

If normal clearance procedures are followed, CNCS will lose the opportunity to conduct this pilot, as funds must be obligated by September 30, 2014. There will not be sufficient time to complete this grant competition this fiscal year if we were to follow the standard OIRA clearance procedure.

Dated: May 7, 2014.
Lois Nembhard,
Deputy Director, Social Innovation Fund.

[FR Doc. 2014-11023 Filed 5-13-14; 8:45 am]

BILLING CODE 6050-28-P